DEPARTMENT OF COMMERCE

Foreign-Trade Zones Board

[B-27-2020]

Foreign-Trade Zone (FTZ) 143—West Sacramento, California; Authorization of Production Activity; LiCAP Technologies, Inc. (Electrodes), Sacramento, California

On April 21, 2020, the Port of Sacramento, grantee of FTZ 143, submitted a notification of proposed production activity to the FTZ Board on behalf of LiCAP Technologies, Inc., within Subzone 143E, in Sacramento, California.

The notification was processed in accordance with the regulations of the FTZ Board (15 CFR part 400), including notice in the Federal Register inviting public comment (85 FR 29397, May 15, 2020). On August 19, 2020, the applicant was notified of the FTZ Board's conditional decision that no further review of the activity is warranted at this time. The production activity described in the notification was authorized, subject to the FTZ Act and the FTZ Board's regulations, including Section 400.14, and further subject to a five-year time limit (ending August 19, 2025).

Dated: August 19, 2020.
Andrew McGilvray,
Executive Secretary.

[FR Doc. 2020-18591 Filed 8-24-20; 8:45 am]

BILLING CODE 3510-DS-P